OFFICE OF NATIONAL DRUG CONTROL POLICY

Meeting of the Advisory Commission on Drug Free Communities

AGENCY: Office of National Drug Control Policy.

ACTION: Notice of meeting.

SUMMARY: In accordance with the Drug-Free Communities Act, a meeting of the Advisory Commission on Drug Free Communities will be held on November 13, 2002, at the Office of National Drug Control Policy in the 5th Floor Conference Room, 750 17th Street NW., 7th Floor, Washington, DC. The meeting will commence at 9 a.m. on Wednesday, November 13, 2002, and adjourn at 5 p.m. The agenda will include: the solicitation for Mentoring Grants; the National Antidrug Coalition Institute; the Marijuana and Community Drug Prevention Initiatives of the National Youth Anti-Drug Media Campaign Coalition Building Initiative; and remarks by ONDCP Director, John P. Walters. There will be an opportunity for public comment from 4 p.m. until 4:30 p.m. on Wednesday, November 13, 2002. Members of the public who wish to attend the meeting and/or make public comment should contact Sigrid Melus at (202) 395-6700 to arrange building access.

FOR FURTHER INFORMATION CONTACT: Linda V. Priebe, (202) 395-6622.

Dated: October 23, 2002.
Linda V. Priebe,
Assistant General Counsel.

[FR Doc. 02-27415 Filed 10-28-02; 8:45 am]

BILLING CODE 3180-02-P